DEPARTMENT OF TRANSPORTATION

Federal Motor Carrier Safety Administration

[Docket No. FMCSA-2011-0190]

Qualification of Drivers; Exemption Applications; Vision

AGENCY: Federal Motor Carrier Safety Administration (FMCSA), DOT.

ACTION: Notice of applications for exemptions; request for comments.

SUMMARY: FMCSA announces receipt of applications from 14 individuals for exemption from the vision requirement in the Federal Motor Carrier Safety Regulations. If granted, the exemptions would enable these individuals to qualify as drivers of commercial motor vehicles (CMVs) in interstate commerce without meeting the Federal vision standard.

DATES: Comments must be received on or before November 16, 2011.

ADDRESSES: You may submit comments bearing the Federal Docket Management System (FDMS) Docket No. FMCSA-2011-0190 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Elaine M. Papp, Chief, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 14 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Kevin G. Clem

Mr. Clem, 49, has had retinal detachment in his left eye due to a traumatic injury that occurred in 1982. The best corrected visual acuity in his right eye is 20/15, and in his left eye is 20/600. Following an examination in 2011, his ophthalmologist noted, “Kevin has driven with a commercial driver's license for years and, in my opinion, his visual and ocular functioning would not restrict his ability to continue driving commercially.” Mr. Clem reported that he has driven tractor-trailer combinations for 9½ years, accumulating 665,000 miles. He holds a Class A CDL from South Dakota. His driving record for the last 3 years shows no crashes and no convictions for moving violations in a CMV.

Richard A. Hackney

Mr. Hackney, 36, has had amblyopia in his left eye since childhood. The best corrected visual acuity in his right eye is 20/20, and in his left eye, hand motion vision. Following an examination in 2011, his ophthalmologist noted, “It is my medical opinion that Mr. Hackney has sufficient vision to perform the driving tasks required to operate a commercial vehicle.” Mr. Hackney reported that he has driven straight trucks for 15 years, accumulating 30,000 miles. He holds a Class E operator's license from Missouri. His driving record for the last 3 years shows no crashes and no convictions for moving violations in a CMV.

Rocky J. Lachney

Mr. Lachney, 28, has had amblyopia in his right eye since birth. The best corrected visual acuity in his left eye is 20/20, and in his right eye, 20/150. Following an examination in 2011, his optometrist noted, “I certify, in my opinion, he has sufficient vision to safely drive a commercial vehicle.” Mr. Lachney reported that he has driven straight trucks for 6 years, accumulating 28,800 miles and tractor-trailer combinations for 6 years, accumulating 600 miles. He holds a Class D chauffeur's license from Louisiana. His driving record for the last 3 years shows no crashes and no convictions for moving violations in a CMV.

Herman Martinez

Mr. Martinez, 55, has had complete loss of vision in his right eye due to an injury sustained in 1976. The best corrected visual acuity in his left eye is 20/15. Following an examination in 2011, his ophthalmologist noted, “It is my opinion, Mr. Martinez has sufficient vision to perform the driving tasks required to operate a commercial vehicle.” Mr. Martinez reported that he has driven straight trucks for 34 years, accumulating 136,000 miles and tractor-trailer combinations for 21 years, accumulating 84,000 miles. He holds a Class D operator's license from New Mexico. His driving record for the last 3 years shows no crashes and no convictions for moving violations in a CMV.

Charles L. McClendon

Mr. McClendon, 48, has a prosthetic left eye, due to injury since childhood. The best corrected visual acuity in his right eye is 20/20. Following an examination in 2011, his optometrist noted, “In my professional opinion, Mr. McClendon is visually qualified to operate a commercial vehicle.” Mr. McClendon reported that he has driven straight trucks for 7 years, accumulating 84,000 miles. He holds a Class E operator's license from Florida. His driving record for the last 3 years shows no crashes and no convictions for moving violations in a CMV.

Gerald L. Pagan

Mr. Pagan, 50, has had amblyopia in his left eye since birth. The best corrected visual acuity in his right eye is 20/20, and in his left eye, 20/350. Following an examination in 2011, his optometrist noted, “I, Andrew J. Lovsin, OD, certify that Mr. Jerry Pagan has sufficient vision to perform the driving tasks required to operate a commercial vehicle.” Mr. Pagan reported that he has driven tractor-trailer combinations for 4 years, accumulating 436,800 miles. He holds a Class A CDL from North Carolina. His driving record for the last 3 years shows one crash, for which he was not cited and no convictions for moving violations in a CMV.

Danny C. Pope

Mr. Pope, 50, has had amblyopia in his left eye since birth. The best corrected visual acuity in his right eye is 20/20 and in his left eye, light perception. Following an examination in 2011, his optometrist noted, “He will be able to drive a commercial vehicle since he is correctable to 20/20 in his right eye.” Mr. Pope reported that he has driven straight trucks for 6 years, accumulating 294,000 miles and tractor-trailer combinations for 31 years, accumulating 2.6 million miles. He holds a Class A CDL from Illinois. His driving record for the last 3 years shows no crashes and no convictions for moving violations in a CMV.

David A. Rice

Mr. Rice, 47, has a prosthetic left eye due to a traumatic injury sustained in 2000. The best corrected visual acuity in his right eye is 20/30. Following an examination in 2011, his optometrist noted, “I feel he has sufficient vision to perform his commercial vehicle driving tasks.” Mr. Rice reported that he has driven straight trucks for 16 years, accumulating 3,200 miles and tractor-trailer combinations for 16 years, accumulating 3,200 miles. He holds a Class A CDL from Pennsylvania. His driving record for the last 3 years shows no crashes and no convictions for moving violations in a CMV.

Levi A. Shetler

Mr. Shetler, 38, has had central retinal vein occlusion in his right eye since 2006. The best corrected visual acuity in his right eye is 20/400 and in his left eye, 20/20. Following an examination in 2011, his optometrist noted, “It is my opinion that Mr. Shetler does have sufficient vision to perform the driving tasks required to operate a commercial vehicle.” Mr. Shetler reported that he has driven straight trucks for 3½ years, accumulating 28,000 miles. He holds a Class B CDL from Ohio. His driving record for the last 3 years shows no crashes and no convictions for moving violations in a CMV.

Rick E. Smith

Mr. Smith, 52, has had amblyopia in his left eye since childhood. The best corrected visual acuity in his right eye is 20/20 and in his left eye, 20/80. Following an examination in 2011, his optometrist noted, “Please be advised that I have certified that Rick Smith has sufficient vision to perform the driving tasks required to operate a commercial vehicle.” Mr. Smith reported that he has driven straight trucks for 31 years, accumulating 930,000 miles and tractor-trailer combinations for 31 years, accumulating 930,000 miles. He holds a Class A CDL from Illinois. His driving record for the last 3 years shows no crashes and no convictions for moving violations in a CMV.

Juan E. Sotero

Mr. Sotero, 47, has had postenor ureal malignant melanoma in his right eye since 2000. The best corrected visual acuity in his right eye is 20/300, and in his left eye is 20/25. Following an examination in 2011, his optometrist noted, “In my opinion, Mr. Sotero has sufficient vision to perform the driving tasks required to operate a commercial vehicle.” Mr. Sotero reported that he has driven straight trucks for 5.9 years, accumulating 44,250 miles. He holds a Class B CDL from Florida. His driving record for the last 3 years shows no crashes and no convictions for moving violations in a CMV.

Randell K. Tyler

Mr. Tyler, 40, has had complete loss of vision in his right eye due to toscoplasmosis since childhood. The visual acuity in his left eye is 20/20. Following an examination in 2011, his ophthalmologist noted, “I feel he has sufficient vision to drive a commercial vehicle.” Mr. Tyler reported that he has driven straight trucks for 10 years, accumulating 200,000 miles. He holds a Class D operator's license from Alabama. His driving record for the last 3 years shows no crashes and no convictions for moving violations in a CMV.

Steven R. Wetlesen

Mr. Wetlesen, 44, has had retinal detachment in his left eye due to an injury sustained at age 14. The best corrected visual acuity in his right eye is 20/20 and in his left eye light perception only. Following an examination in 2011, his ophthalmologist noted, “Mr. Wetlesen has stable visual impairment of the left eye due to trauma. No significant change in his eye exam is anticipated. Given that he has safely operated commercial vehicles in the past, I am of the medical opinion that he is safe to continue operating commercial vehicles.” Mr. Wetlesen reported that he has driven straight trucks for 11 years, accumulating 220,000 miles. He holds a Class D operator's license from Alabama. His driving record for the last 3 years shows no crashes and no convictions for moving violations in a CMV.

Jeffrey K. Yockey

Mr. Yockey, 51, has had cataract and a retinal scar in his left eye due to an injury since age 10. The best corrected visual acuity in his right eye is 20/20, and in his left eye, 20/50. Following an examination in 2011, his optometrist noted, “I believe that Mr. Yockey meets the criteria you specify and that he has sufficient vision to perform the essential tasks of driving a commercial vehicle.” Mr. Yockey reported that he has driven tractor-trailer combinations for 33 years, accumulating 4.6 million miles. He holds a Class A CDL from Ohio. His driving record for the last 3 years shows no crashes and two convictions for speeding in a CMV; in the first instance, he exceeded the speed limit by 11 mph and in the second incidence, he exceeded the speed limit by 4 mph.

Request for Comments

In accordance with 49 U.S.C. 31136(e) and 31315, FMCSA requests public comment from all interested persons on the exemption petitions described in this notice. The Agency will consider all comments received before the close of business November 16, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: October 6, 2011.
Larry W. Minor,
Associate Administrator of Policy.

[FR Doc. 2011-26690 Filed 10-14-11; 8:45 am]

BILLING CODE 4910-EX-P